DEPARTMENT OF LABOR

Employment and Training Administration

[TA-W-53,518]

S. Lichtenberg & Company, Inc., Waynesboro, GA; Notice of Termination of Investigation

Pursuant to Section 221 of the Trade Act of 1974, as amended, an investigation was initiated on November 13, 2003 in response to a petition filed by a State agency representative on behalf of workers at S. Lichtenberg & Company, Inc., Waynesboro, Georgia.

The petitioning group of workers is covered by an earlier petition filed on October 30, 2003 (TA-W-53,381) that is the subject of an ongoing investigation for which a determination has not yet been issued. Further investigation in this case would duplicate efforts and serve no purpose; therefore the investigation under this petition has been terminated.

Signed at Washington, DC this 24th day of November, 2003.
Linda G. Poole,
Certifying Officer, Division of Trade Adjustment Assistance.

[FR Doc. 03-31677 Filed 12-23-03; 8:45 am]

BILLING CODE 4510-30-P